DEPARTMENT OF COMMERCE

Foreign-Trade Zones Board

[B-01-2019]

Foreign-Trade Zone (FTZ) 193—Clearwater, Florida; Notification of Proposed Production Activity; Catalent Pharma Solutions, LLC; (Pharmaceutical Products); St. Petersburg, Florida

Catalent Pharma Solutions, LLC (Catalent) submitted a notification of proposed production activity to the FTZ Board for its facility in St. Petersburg, Florida. The notification conforming to the requirements of the regulations of the FTZ Board (15 CFR 400.22) was received on January 30, 2019.

Catalent's facility is located within Subzone 193A. The facility is used to produce certain pharmaceutical products. Pursuant to 15 CFR 400.14(b), FTZ activity would be limited to the specific foreign-status materials and components and specific finished products described in the submitted notification (as described below) and subsequently authorized by the FTZ Board.

Production under FTZ procedures could exempt Catalent from customs duty payments on the foreign-status components used in export production. On its domestic sales, Catalent would be able to choose the duty rate during customs entry procedures that applies to tafamidis pharmaceutical capsules (duty free) in finished product and bulk form for the foreign-status input noted below. Catalent would be able to avoid duty on foreign-status material which becomes scrap/waste. Customs duties also could possibly be deferred or reduced on foreign-status production equipment.

The material/component sourced from abroad is tafamidis—active pharmaceutical ingredient (duty rate 6.5%).

Public comment is invited from interested parties. Submissions shall be addressed to the Board's Executive Secretary at the address below. The closing period for their receipt is March 20, 2019.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Christopher Wedderburn at Chris.Wedderburn@trade.gov or (202) 482-1963.

Dated: February 4, 2019.
Andrew McGilvray,
Executive Secretary.

[FR Doc. 2019-01661 Filed 2-7-19; 8:45 am]

BILLING CODE 3510-DS-P